DEPARTMENT OF STATE

[Public Notice 5170]

Shipping Coordinating Committee; Notice of Meeting

The Shipping Coordinating Committee (SHC) will conduct an open meeting from 10 a.m. to 11 a.m. on Monday, November 14, 2005, in Room 6103, at U.S. Coast Guard Headquarters, 2100 Second Street, SW., Washington, DC 20593-0001. The purpose of the meeting is to finalize preparations for the 23rd Extraordinary Session of Council, 95th Session of Council and 24th Session of the Assembly of the International Maritime Organization (IMO), which are scheduled for November 17, 2005 thru December 2, 2005, at the IMO Headquarters in London. Discussion will focus on papers received and draft U.S. positions.

Items of particular interest include:

—Reports of Committees;

—Reports on Diplomatic Conferences;

—Work Program and Budget for 2006-2007; and

—Election of Members of the Council.

Members of the public may attend these meetings up to the seating capacity of the room. Interested persons may seek information by writing: Director, International Affairs, U.S. Coast Guard Headquarters, Commandant (G-CI), room 2114, 2100 Second Street, SW., Washington, DC 20593-0001 or by calling: (202) 267-2280.

Dated: October 13, 2005.
Clay Diamond,
Executive Secretary, Shipping Coordinating Committee, Department of State.

[FR Doc. 05-21280 Filed 10-24-05; 8:45 am]

BILLING CODE 4710-09-P